DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Heber Valley Railroad

[Waiver Petition Docket Number FRA-2010-0156]

The Heber Valley Railroad (HVRR) seeks a waiver of compliance from certain provisions of 49 CFR Part 215, Railroad Freight Car Safety Standards, specifically, 49 CFR 215.303 (Stenciling of Restricted Cars), which requires that restricted railroad freight cars shall be stenciled or marked in clearly legible letters with the letter “R” and a series of designated terms to completely indicate the basis for the restricted operation of the car. In addition, HVRR seeks a waiver of compliance from all of 49 CFR Part 224 (Reflectorization of Rail Freight Rolling Stock).

The waiver petition concerns HVRR 366, which is a former Santa Fe (AT&SF) railroad flat car of riveted construction built in 1951, which has been converted to passenger service for tourist and excursion railroad service by the addition of walls, roof, and bench seats to allow passengers to sit in the open air for tourist train rides. HVRR 366 is more than 50 years old, measured from the date of original construction, and is requested by petitioner for special approval for continued operation under § 215.203(c). HVRR 366 is not interchangeable and operates on 16 miles of Class 1 & 2 track of the former Denver and Rio Grande Western branch line between Heber City, Utah, and Vivian Park, UT, at no more than 25 miles per hour. This branch line is not connected to the general railroad system.

HVRR, in support of its petition, has stated that the stenciling of non-complying elements and adding reflective striping would detract from both the aesthetic and historical nature of their vintage rolling stock. HVRR 366 has been inspected by HVRR shop personnel and has been deemed safe for service. The car has been in continuous service on HVRR since 1995, and has operated without incident or safety violations.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0156) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC on January 3, 2011.
Robert C. Lauby,
Deputy Associate Administrator for Regulatory and Legislative Operations.

[FR Doc. 2011-52 Filed 1-5-11; 8:45 am]

BILLING CODE 4910-06-P